FEDERAL COMMUNICATIONS COMMISSION

Sunshine Act Meeting

October 7, 2004.

The Federal Communications Commission will hold an Open Meeting on the subjects listed below on Thursday, October 14, 2004, which is scheduled to commence at 9:30 a.m. in Room TW-C305, at 445 12th Street, SW., Washington, DC.

Item No. | Bureau | Subject
1 | Office of Engineering and Technology | Title: Amendment of Part 15 regarding new requirements and measurement guidelines for Access Broadband over Power Line Systems (ET Docket No. 04-37) and Carrier Current Systems, including Broadband over Power Line Systems (ET Docket No. 03-104).
|  | Summary: The Commission will consider a Report and Order regarding changes to the rules applicable to Access Broadband over Power Line systems.
2 | Office of Engineering and Technology | Title: Amendment of Part 2 of the Commission's Rules to Allocate Spectrum Below 3 GHz for Mobile and Fixed Services to Support the Introduction of New Advanced Wireless Services, Including Third Generation Wireless Systems (ET Docket No. 00-258) and Amendments to Parts 1, 2, 27 and 90 of the Commission's Rules to License Services in the 216-220 MHz, 1390-1395 MHz, 1427-1429 MHz, 1432-1435 MHz, 1670-1675 MHz, and 2385-2390 MHz Government Transfer Bands (WT Docket No. 02-8).
|  | Summary: The Commission will consider a Seventh Report and Order concerning the relocation of existing Federal Government users from the band 1710-1755 MHz in order to make that band available for Advanced Wireless Services.
3 | International | Title: The Effect of Foreign Mobile Termination Rates on U.S. Customers (IB Docket No. 02-324 and 96-261).
|  | Summary: The Commission will consider a Notice of Inquiry concerning the possible effects of foreign mobile termination rates on U.S. customers and competition in the U.S. telecommunications services market.
4 | Wireline Competition | Title: Review of the Section 251 Unbundling Obligations of Incumbent Local Exchange Carriers (CC Docket No. 01-338); Implementation of the Local Competition Provisions of the Telecommunications Act of 1996 (CC Docket No. 96-98); and Deployment of Wireline Services Offering Advanced Telecommunications Capability (CC Docket No. 98-147).
|  | Summary: The Commission will consider an Order on Reconsideration concerning requests from BellSouth and SureWest to reconsider and/or clarify various broadband unbundling obligations.
5 | Wireline Competition | Title: The Pay Telephone Reclassification and Compensation Provisions of the Telecommunications Act of 1996 (CC Docket No. 96-128).
|  | Summary: The Commission will consider an Order on Reconsideration concerning its payphone compensation rules.
6 | Wireline Competition | Title: Petition of Mid-Rivers Telephone Cooperative, Inc. for Order Declaring it to be an Incumbent Local Exchange Carrier in Terry, Montana, Pursuant to Section 251(h)(2) (WC Docket No. 02-78).
|  | Summary: The Commission will consider a Notice of Proposed Rulemaking concerning section 251(h)(2) of the Communications Act of 1934, as amended.

Additional information concerning this meeting may be obtained from Audrey Spivack or David Fiske, Office of Media Relations, (202) 418-0500; TTY 1 (888) 835-5322. Audio/Video coverage of the meeting will be broadcast live over the Internet from the FCC's Audio/Video Events Web page at www.fcc.gov/realaudio.

For a fee this meeting can be viewed live over George Mason University's Capitol Connection. The Capitol Connection also will carry the meeting live via the Internet. To purchase these services call (703) 993-3100 or go to www.capitolconnection.gmu.edu. Audio and video tapes of this meeting can be purchased from CACI Productions, 14151 Park Meadow Drive, Chantilly, VA 20151, (703) 679-3851.

Copies of materials adopted at this meeting can be purchased from the FCC's duplicating contractor, Best Copy and Printing, Inc. (202) 488-5300; Fax (202) 488-5563; TTY (202) 488-5562. These copies are available in paper format and alternative media, including large print/type; digital disk; and audio tape. Best Copy and Printing, Inc. may be reached by e-mail at FCC@BCPIWEB.com.

Federal Communications Commission.
Marlene H. Dortch,
Secretary.

[FR Doc. 04-23189 Filed 10-12-04; 2:15 pm]

BILLING CODE 6712-01-P